OFFICE OF THE UNITED STATES TRADE REPRESENTATIVE

Procedures for Further Consideration of Requests for Exclusion of Particular Products From Actions With Regard to Certain Steel Products Under Section 203 of the Trade Act of 1974, as Established in Presidential Proclamation 7529 of March 5, 2002

AGENCY: Office of the United States Trade Representative.

ACTION: Notice.

SUMMARY: In a notice published on October 26, 2001 (66 F.R. 54321) (Notice), the Trade Policy Staff Committee (TPSC) established procedures for interested persons to request the exclusion of particular products from any action the President might take under section 203 of the Trade Act of 1974, as amended, (19 U.S.C. 2253) (Trade Act) with regard to certain steel products. Presidential Proclamation 7529 of March 5, 2002 established such actions (safeguard measures) with regard to certain steel products, but excluded some of the particular products identified in requests for exclusion made in response to the Notice. See 67 F.R. 10553 (March 7, 2002). Proclamation 7529 authorized the United States Trade Representative (USTR) to further consider requests for exclusion of particular products (exclusion requests) submitted in accordance with the procedures set out in the Notice. The USTR is establishing procedures for further consideration of such requests and, to the extent possible, for consideration of exclusion requests submitted after the time period specified in the Notice.

EFFECTIVE DATE: April 18, 2002.

FOR FURTHER INFORMATION CONTACT: Office of Industry, Office of the United States Trade Representative, 600 17th Street, NW, Room 501, Washington DC, 20508. Telephone (202) 395-5656.

SUPPLEMENTARY INFORMATION: On October 22, 2001, the ITC issued affirmative determinations under section 202(b) of the Trade Act (22 U.S.C. 2252(b)) that (1) carbon and alloy steel slabs, plate (including cut-to-length plate and clad plate), hot-rolled sheet and strip (including plate in coils), cold-rolled sheet and strip (other than grain-oriented electrical steel), and corrosion-resistant and other coated sheet and strip; (2) carbon and alloy hot-rolled bar and light shapes; (3) carbon and alloy cold-finished bar; (4) rebar; (5) carbon and alloy welded tubular products (other than oil country tubular goods); (6) carbon and alloy flanges, fittings, and tool joints; (7) stainless steel bar and light shapes; and (8) stainless steel rod are being imported in such increased quantities as to be a substantial cause of serious injury, or the threat thereof, to the domestic industries producing those products. The Commissioners voting were equally divided with respect to the determination under section 202(b) of the Trade Act as to whether increased imports of (9) carbon and alloy tin mill products; (10) tool steel, all forms; (11) stainless steel wire; and (12) stainless steel flanges and fittings are being imported in such increased quantities as to be a substantial cause of serious injury, or the threat thereof, to the domestic industries producing those products.

On October 26, 2001, the TPSC published the Notice, which requested comments on what action the President should take under section 203 of the Trade Act, including any exclusion requests. The TPSC received more than 200 requests, covering approximately 1000 particular products. Each request was assigned a tracking number, beginning with an X (the X number), and posted on the USTR website, http://www.ustr.gov/sectors/industry/steel201/exclusion_requests.htm.

On March 5, 2002, the President issued Proclamation 7529, which established safeguard measures in the form of increases in duty and a tariff-rate quota pursuant to section 203 of the Trade Act on imports of ten steel products described in paragraph 7 of that proclamation. Effective with respect to goods entered, or withdrawn from warehouse for consumption, on or after 12:01 a.m., EST, on March 20, 2002, Proclamation 7529 modifies the HTS so as to provide for such increased duties and a tariff-rate quota. Proclamation 7529 also delegated to the USTR the authority to further consider exclusion requests submitted in accordance with the procedures set out in the Notice and, upon publication in the Federal Register of a notice of his finding that a particular product should be excluded, to modify the HTS provisions created by the Annex to that proclamation to exclude such particular product from the pertinent safeguard measure. USTR published a notice in 67 F.R. 16484 (April 5, 2002), excluding certain particular products from the safeguard measure.

To facilitate the further consideration of exclusion requests submitted in accordance with the procedures set forth in the Notice, USTR requests interested persons who remain interested in the exclusion of a particular product identified by an X number to provide additional information, and to organize previously submitted information in a standard format. USTR, in conjunction with the U.S. Department of Commerce, has developed a series of questions designed to elicit information that clearly identifies the product under consideration, and to provide detailed information on the requester's situation. These questions, presented in the form of a requester questionnaire, are available on the USTR and Commerce Department websites at <http://ia.ita.doc.gov/steel/exclusion/>. Interested persons who remain interested in the exclusion of a particular product that has received an X number should provide responses to this questionnaire by April 23, 2002.

Short descriptions of the particular products covered by complete questionnaire responses will be posted on the website by April 30, 2002. To facilitate the further consideration of previously submitted objections to exclusion requests, USTR requests interested persons who remain interested in opposing the exclusion of a particular product identified by an X number to provide additional information, and to organize previously submitted information in a standard format.

USTR, in conjunction with the Commerce Department, has developed a series of questions designed to substantiate any objections. These questions, presented in the form of an objector questionnaire, will be available on the USTR and Commerce Department websites at <http://ia.ita.doc.gov/steel/exclusion/>. Interested persons must submit a complete objector questionnaire by May 13, 2002.

To the extent possible, USTR will consider requests for exclusion of products that have not received an X number. Interested persons requesting the exclusion of such a product should submit a requester questionnaire before May 20, 2002. The procedures for submitting such additional requests for exclusion will be announced in a Federal Register notice that will be issued shortly.

If a complete response to the requester questionnaire with regard to a particular product has not been received by the date indicated above, USTR may disregard the exclusion request for that product. If a complete response to the objector questionnaire with regard to a particular product has not been received by the date indicated above, USTR will assume that the domestic industry does not object to the exclusion of that particular product.

Each request will be evaluated on a case-by-case basis. USTR will grant only those exclusions that do not undermine the objectives of the safeguard measures. In analyzing the requests, USTR will consider whether the product is currently being produced in the United States, whether substitution of the product is possible, whether qualification requirements affect the requestor's ability to use domestic products, inventories, whether the requested product is under development by a U.S. producer who will imminently be able to produce it in marketable quantities and any other relevant factors. Where necessary, USTR and/or the Commerce Department will meet with parties to discuss the information that was submitted and/or to gain additional information.

Every effort will be made to process requests as soon as possible consistent with resources and the quality of information that is received. Requests identified by an X number will receive primary consideration.

Submission of Requests for Exclusion and Opposition to Requests for Exclusion

Interested persons submitting a response to a requester or objector questionnaire should file six paper copies of the questionnaire responses with the Department of Commerce Central Records Unit (B099), along with an electronic version in WordPerfect or Microsoft Word format on a computer diskette. The submitter must provide the following information at the top of the first page of each paper copy, and on a label affixed to any computer diskette: (1) “Steel 201 Proceedings;” (2) either, the X number or “New Request” applicable to the product in question; and (3) “Response to Requester's Questionnaire” or “Response to Objector's Questionnaire.” The questionnaire response must include a response to each question, except that a questionnaire response covering a new exclusion request may omit responses to questions related to the X number of the product in question.

Any description of the product subject to an exclusion request must include only publicly available information, in text form (no tables or graphs), with all units of measurement converted to metric equivalents. The description must be sufficient to differentiate the product from other products, and to allow for enforcement of the exclusion, if granted, by the U.S. Customs Service.

We strongly discourage the submission of business confidential information. Any questionnaire response that contains business confidential information must be accompanied by six copies of a public summary that does not contain business confidential information, and a diskette containing an electronic version of the public summary. Any paper submission and diskette containing business confidential information must be clearly marked “Business Confidential” at the top and bottom of the cover page (or letter) and each succeeding page of the submission, and on the label of the diskette. The version that does not contain business confidential information should also be clearly marked, at the top and bottom of each page, “public version” or “nonconfidential,” and on the label of the diskette.

Paperwork Reduction Act

This notice contains a collection of information provision subject to the Paperwork Reduction Act (PRA) that the Office of Management and Budget (OMB) has approved. Notwithstanding any other provision of law, no person is required to respond to nor shall a person be subject to a penalty for failure to comply with a collection of information subject to the requirements of the PRA unless that collection of information displays a currently valid OMB number. This notice's collection of information burden is only for those persons who wish voluntarily to request the exclusion of a product from the safeguard measures. It is expected that the collection of information burden will be no more than 20 hours. This collection of information contains no annual reporting or record keeping burden. OMB approved this collection of information under OMB Control Number 0350-0011. Please send comments regarding the collection of information burden or any other aspect of the information collection to USTR at the address above.

Robert B. Zoellick,
United States Trade Representative.

[FR Doc. 02-9518 Filed 4-17-02; 8:45 am]

BILLING CODE 3190-01-P